DEPARTMENT OF TRANSPORTATION

Federal Aviation Administration

RTCA, Special Committee 172; Future Air-Ground Communications in the VHF Aeronautical Data Band (118-137 MHz)

Pursuant to section 10(a)(2) of the Federal Advisory Committee Act (Pub. L. 92-463, 5 U.S.C., Appendix 2), notice is hereby given for Special Committee 172 meeting to be held July 26-27, 2000, starting at 9:00 a.m. The meeting will be held at RTCA, 1140 Connecticut Avenue, NW., Suite 1020, Washington, DC 20036.

The agenda will be as follows: July 26: (1) Plenary Convenes at 9:00 a.m.; (2) Introductory Remarks; (3) Review and Approve Agenda; (4) Working Group (WG)-2, VHF Data Radio Signal-in-Space Minimum Aviation System Performance Standards, review comments on final work (written inputs only) and vote on DO-224A (distributed in advance).

Note: This is a single-purpose meeting convened solely for the purpose of completing the final draft of DO-224A. No comments will be accepted that were not submitted for review, in writing, prior to the meeting. July 27: (5) WG-2/Plenary as necessary; (6) Other Business; (7) Dates and Locations of Next Meeting; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on June 14, 2000.
Jane P. Caldwell,
Designated Official.

[FR Doc. 00-15537 Filed 6-19-00; 8:45 am]

BILLING CODE 4910-13-M